DEPARTMENT OF COMMERCE

International Trade Administration

[A-520-803]

Polyethylene Terephthalate Film, Sheet and Strip From the United Arab Emirates: Extension of Time Limit for Preliminary Results of Antidumping Duty Administrative Review

AGENCY: Import Administration, International Trade Administration, Department of Commerce.

DATES: Effective Date: July 29, 2011.

FOR FURTHER INFORMATION CONTACT: Andrew Huston or Jun Jack Zhao, Import Administration, International Trade Administration, U.S. Department of Commerce, 14th Street and Constitution Avenue, NW., Washington, DC 20230; telephone: (202) 482-4261 and (202) 482-1396, respectively.

Background

On December 28, 2010, the Department of Commerce (the Department) published the initiation of an administrative review of the antidumping duty order on polyethylene terephthalate film, sheet and strip from the United Arab Emirates (UAE) for the period November 01, 2009, through October 31, 2010. See Initiation of Antidumping and Countervailing Duty Administrative Reviews and Request for Revocation in Part, 75 FR 81565, 81570 (December 28, 2010). This review covers one producer and/or exporter of the subject merchandise to the United States: JBF RAK LLC (JBF).

Extension of Time Limit for the Preliminary Results

Section 751(a)(3)(A) of the Tariff Act of 1930, as amended (the Act), and section 351.213(h)(1) of the Department's regulations require the Department to issue the preliminary results of a review within 245 days after the last day of the anniversary month of the order or suspension agreement for which the administrative review was requested, and final results of the review within 120 days after the date on which the notice of the preliminary results is published in the Federal Register. However, if the Department determines that it is not practicable to complete the review within the aforementioned specified time limits, section 751(a)(3)(A) of the Act and section 351.213(h)(2) of the Department's regulations allow the Department to extend the 245-day period to 365 days and to extend the 120-day period to 180 days.

The Department requires additional time to evaluate the questionnaire responses from JBF in order to conduct a thorough analysis of all information on the record, in particular the claimed sample sales and JBF's product matching issues. Therefore, the Department finds that it is not practicable to complete the preliminary results of this review by the original deadline of August 2, 2011, and is extending the deadline for completion of the preliminary results of this administrative review from 245 days to 365 days. The revised deadline for the preliminary results of this administrative review is now no later than November 30, 2011.

This notice is issued and published pursuant to sections 751(a)(3)(A) and 777(i)(1) of the Act.

Dated: July 21, 2011.
Christian Marsh,
Deputy Assistant Secretary for Antidumping and Countervailing Duty Operations.

[FR Doc. 2011-19266 Filed 7-28-11; 8:45 am]

BILLING CODE 3510-DS-P